DEPARTMENT OF DEFENSE

Defense Acquisition Regulations System

[Docket Number DARS-2025-0104; OMB Control Number 0750-0009]

Information Collection Requirement; Defense Federal Acquisition Regulation Supplement (DFARS) Preventing Conflicts of Interest for Certain Consulting Services

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by September 24, 2025.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Tucker Lucas, 571-372-7574, or whs.mc-alex.esd.mbx.dd-dod-information-collections@mail.mil.

SUPPLEMENTARY INFORMATION:

Title and OMB Number: Defense Federal Acquisition Regulation Supplement (DFARS), Preventing Conflicts of Interest for Certain Consulting Services; OMB Control Number 0750-0009.

Type of Request: New submission.

Affected Public: Businesses or other for-profit and not-for-profit institutions.

Respondent's Obligation: Required to obtain or retain benefits.

Frequency: On Occasion.

Number of Respondents: 9,345.

Responses Per Respondent: Approximately 1.

Annual Responses: 9,657.

Average Burden Per Response: 1 hour.

Annual Burden Hours: 9,657.

Needs and Uses: This information collection is necessary to implement section 812 of the National Defense Authorization Act (NDAA) for Fiscal Year (FY) 2024 (Pub. L. 118-31). Section 812 requires DoD to collect information regarding potential conflicts of interest from any offeror, including any subsidiary or affiliate thereof, proposing to perform work on a DoD contract for certain consulting services.

The solicitation provision at DFARS 252.209-7012, Prohibition Relating to Conflicts of Interest in Consulting Services—Certification, will be included in solicitations assigned a North American Industry Classification System (NAICS) code beginning with 5416, including solicitations using Federal Acquisition Regulation (FAR) part 12 procedures for the acquisition of commercial services, but excluding contracts for commercial products. NAICS codes beginning with 5416 include management, scientific, and technical consulting services.

The solicitation provision at DFARS 252.209-7012 requires offerors to certify whether the offeror, or any of its subsidiaries or its affiliates, hold a contract or subcontract that involves consulting services with one or more covered foreign entities. The term “covered foreign entity” is defined in section 812 of the NDAA for FY 2024 and includes, but is not limited to, the government of the People's Republic of China and the government of the Russian Federation.

The solicitation provision also requires offerors to certify whether they maintain a conflict-of-interest mitigation plan. If an offeror certifies that it, or any of its subsidiaries or affiliates, hold a contract or subcontract that involves consulting services with one or more covered foreign entities, then to be eligible for award, the offeror would be required to submit to the contracting officer a conflict-of-interest mitigation plan auditable by a contract oversight entity (e.g., the Defense Contract Management Agency).

Contracting officers will use the information provided by offerors to ensure that—

(1) An offeror does not have contracts or subcontracts that involve consulting services with covered foreign entities;

(2) The conflict of interest will be mitigated if an offeror has such contracts or subcontracts and is tentatively selected for award; or

(3) A contract will not be awarded to the offeror.

If a contract is awarded to an offeror with an approved conflict-of-interest mitigation plan, the contracting officer will incorporate the offeror's conflict-of-interest mitigation plan into the contract. The plan may be audited by a contract oversight entity.

DoD Clearance Officer: Mr. Tucker Lucas. Requests for copies of the information collection proposal should be sent to Mr. Lucas at whs.mc-alex.esd.mbx.dd-dod-information-collections@mail.mil.

Jennifer D. Johnson,
Editor/Publisher, Defense Acquisition Regulations System.

[FR Doc. 2025-16198 Filed 8-22-25; 8:45 am]

BILLING CODE 6001-FR-P